DEPARTMENT OF COMMERCE

National Oceanic and Atmospheric Administration

RIN 0648-XC108

Magnuson-Stevens Act Provisions; General Provisions for Domestic Fisheries; Application for Exempted Fishing Permits

AGENCY: National Marine Fisheries Service (NMFS), National Oceanic and Atmospheric Administration (NOAA), Commerce.

ACTION: Notice; request for comments

SUMMARY: The Regional Administrator, Southwest Region, NMFS, has made a preliminary determination that an application for an Exempted Fishing Permit (EFP) warrants further consideration. The application was submitted by members of the Pacific sardine fishing industry who request an exemption from seasonal closures of the directed fishery to conduct a survey designed to estimate the population size of Pacific sardine. NMFS requests public comment on the application.

DATES: Comments must be received by August 10, 2012.

ADDRESSES: You may submit comments on this notice identified by 0648-XC108 by any one of the following methods:

• Mail: Rodney R. McInnis, Regional Administrator, Southwest Region, NMFS, 501 West Ocean Blvd., Suite 4200, Long Beach, CA 90802.

• Fax: (562)980-4047, Att: Joshua Lindsay

FOR FURTHER INFORMATION CONTACT: A copy of the application can viewed at the following Web site http://swr.nmfs.noaa.gov/fmd/cps/; or by contacting Joshua Lindsay, Southwest Region, NMFS, (562) 980-4034.

SUPPLEMENTARY INFORMATION: On April 3, 2012, NMFS published a proposed rule to implement the harvest guideline (HG) and annual specifications for the 2012 Pacific sardine fishing season off the U.S. West Coast (77 FR 19991). As part of these management measures the Pacific Fishery Management Council recommended, and NMFS proposed, that 3,000 metric tons (mt) of the maximum harvest guideline (HG) be initially subtracted and set aside for potential industry-based research projects or EFPs. The 3,000 mt set-aside was intended to allow for potential research fishing in the second seasonal period (July 1—September 14, 2012) to occur if that period's directed fishery allocation is reached and directed fishing is closed.

An EFP would allow the fishing activities proposed by the applicants to occur when directed fishing is not allowed. At the April 2012 Council meeting, the Council recommended that NMFS issue an EFP for the total 3,000 mt of the 3,000 mt initially set aside. The applicants proposed the use of 3,000 mt to replicate summer surveys conducted under EFPs approved in 2009, 2010, and 2011.

One of the goals set forth in the EFP application is the development of an index of biomass for Pacific sardine, with the desire that this index be included in the subsequent Pacific sardine stock assessment. If NMFS does not issue this EFP, then the set-aside will be re-allocated to the third period's directed harvest allocation. Likewise, any amount of the set-aside allocated to an EFP for use during the closed fishing time in the second allocation period (prior to September 15), but not utilized, will roll into the third allocation period's directed fishery.

Authority: 16 U.S.C. 1801 et seq.

Dated: July 23, 2012.
Emily H. Menashes
Deputy Director, Office of Sustainable Fisheries, National Marine Fisheries Service.

[FR Doc. 2012-18302 Filed 7-25-12; 8:45 am]

BILLING CODE 3510-22-P